DEPARTMENT OF COMMERCE

International Trade Administration

[Docket No. 021220324-3029-02]

Special American Business Internship Training Program (SABIT)

AGENCY: International Trade Administration, Department of Commerce.

ACTION: Notice of extension of funding availability for grants under the Special American Business Internship Training Program (SABIT).

SUMMARY: The International Trade Administration publishes this notice to extend the closing date for the Special American Business Internship Training Program (SABIT) from March 1, 2003, to April 7, 2003.

DATES: To be considered, applications must be received in the SABIT office by April 7, 2002. Processing of complete applications takes approximately three to four months. All awards are expected to be made by July 1, 2003.

FOR FURTHER INFORMATION CONTACT: Liesel Duhon, Director, Special American Business Internship Training program, International Trade Administration, U.S. Department of Commerce, phone—(202) 482-0073, facsimile—(202) 482-2443. These are not toll free numbers.

SUPPLEMENTARY INFORMATION: This notice amends the Federal Register notice of December 27, 2002 (67 FR 79056-79059), announcing the availability of funds for the Special American Business Internship Training program (SABIT), for training business executives and scientists (also referred to as “interns”) from Eurasia (Armenia, Azerbaijan, Belarus, Georgia, Kazakhstan, Kyrgyzstan, Moldova, Russia, Tajikistan, Turkmenistan, Ukraine, and Uzbekistan). This notice extends the closing date of the referenced Federal Register notice for five weeks to April 7, 2003. All applications must be received by SABIT by April 7, 2003. All information in the previous announcement remains current, except for the change of the closing date.

Dated: February 21, 2003.
Tracy M. Rollins,
Deputy Director, SABIT Program.

[FR Doc. 03-4497 Filed 2-26-03; 8:45 am]

BILLING CODE 3510-HE-P